DEPARTMENT OF TRANSPORTATION

Federal Highway Administration

Environmental Impact Statement; Waukesha and Washington Counties, Wisconsin

AGENCY: Federal Highway Administration (FHWA), DOT.

ACTION: Notice of intent

SUMMARY: The FHWA is issuing this notice to advise the public that an environmental impact statement will be prepared for a proposed highway improvement of State Trunk Highway 164 (STH 164) corridor between Interstate Highway 94 (IH-94) in Waukesha County and the vicinity of State Trunk Highway 175 (STH 175) in Washington County, Wisconsin.

FOR FURTHER INFORMATION CONTACT: Mr. Richard C. Madrzak, Field Operations Engineer, Federal Highway Administration, 567 D'Onofrio Drive, Madison, Wisconsin, 53719-2814; (608) 829-7510. You may also contact Ms. Carol Cutshall, Director, Bureau of Environment, Wisconsin Department of Transportation, P.O. Box 7965, Madison, Wisconsin, 53707-7965; (608) 266-9626.

SUPPLEMENTARY INFORMATION:

Electronic Access

An electronic copy of this document may be downloaded by using a computer, modem and suitable communications software from the Government Printing Office's Electronic Bulletin Board Service at (202) 512-1661. Internet users may reach the Office of the Federal Register's home page at: http://www.nara.gov/fedreg and the Government Printing Office's database at: http://www.access.gpo.gov/nara.

Background

The FHWA, in cooperation with the Wisconsin Department of Transportation, will prepare a Draft Environmental Impact Statement (EIS) on a proposal to improve STH 164 as an ultimate four lane roadway between IH 94 in Waukesha County and the vicinity of STH 175 in Washington County, a distance of about 32 kilometers (20 miles).

The proposal is being considered to address existing and future transportation demand on STH 164, and to preserve land for future transportation improvements. Planning, environmental and engineering studies are underway to develop transportation alternatives. The EIS will assess the environmental impacts of alternatives including: (1) No build, (2) reconstructing the existing 2-land highway to a 4-land facility, and (3) possible alignment deviation from the present alignment at some locations to minimize environmental impacts.

Information describing the proposed action and soliciting comments will be sent to appropriate Federal, State and local agencies and to private organizations and citizens who have previously expressed, or are known to have interest in this proposal. A project advisory committee comprised of Federal and State agencies, local officials, environmental, and other community interests is being established to provide input during development and refinement of alternatives and corridor preservation activities. A series of public meetings will be held to solicit comments from citizens and interest groups. In addition, a public hearing will be held. Public notice will be given of the time and place of the meetings and hearing. The draft EIS will be available for public and agency review and comment prior to the public hearing. Agencies having an interest in or jurisdiction regarding the proposed action will be contacted through interagency coordination meetings and mailings.

To ensure that the full range of issues related to this proposed action are addressed, and all substantive issues are identified, comments and suggestions are invited from all interested parties. Comments or questions concerning this proposed action and the EIS should be directed to FHWA or the Wisconsin Department of Transportation at the addresses provided in the caption FOR FURTHER INFORMATION CONTACT.

(Catalog of Federal Domestic Assistance Program Number 20.205, Highway Planning and Construction. The regulations implementing Executive Order 12372 regarding intergovernmental consultation on Federal programs and activities apply to this program)

Authority: 23 U.S.C. 315; 49 CFR 1.48.

Issued on: February 14, 2000.
Richard C. Madrzak,
Field Operations Engineer, Federal Highway Administration, Madison, Wisconsin.

[FR Doc. 00-4510 Filed 2-24-00; 8:45 am]

BILLING CODE 4910-22-M